DEPARTMENT OF ENERGY

Federal Energy Regulatory Commission

[Docket No. RP99-518-023]

PG&E Gas Transmission, Northwest Corporation; Notice of Tariff Filing

October 2, 2001.

Take notice that on September 28, 2001, PG&E Gas Transmission, Northwest Corporation (GTN) tendered for filing, as part of its FERC Gas Tariff, First Revised Volume No. 1-A, First Revised Sheet No. 54C and Fifth Revised Sheet No. 87 to comply with the Commission's September 13, 2001 Order on Negotiated Rate Filings in Docket Nos. RP99-518-019, -020, -021, and -022.

GTN states that these tariff sheets more clearly articulate, within the Tariff, GTN's historic practices of posting available capacity. GTN requests that these tariff sheets become effective October 29, 2001.

GTN further states that a copy of this filing has been served upon all parties of record.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25205 Filed 10-5-01; 8:45 am]

BILLING CODE 6717-01-P